FEDERAL COMMUNICATIONS COMMISSION

47 CFR Part 73

[DA 01-2856, MM Docket No. 01-332, RM-10334]

Television Broadcast Service; Pueblo, CO

AGENCY: Federal Communications Commission.

ACTION: Proposed rule.

SUMMARY: The Commission requests comments on a petition filed by Zavaletta Broadcasting of Pueblo, an applicant for a construction permit for a new television station to operate on channel 26+ at Pueblo, Colorado, requesting the substitution of channel 48 for channel 26+ at Pueblo. Channel 48 can be allotted to Pueblo, Colorado, with zero offset consistent with the criteria set forth in the Commission's Public Notice, released on November 22, 1999, DA 99-2605. The coordinates for channel 48 are North Latitude 38-21-30 and West Longitude 104-33-24. Pursuant to the Commission's Public Notice, we will not accept competing expressions of interest in the use of television channel 48 at Pueblo.

DATES: Comments must be filed on or before February 4, 2002, and reply comments on or before February 14, 2002.

ADDRESSES: Federal Communications Commission, 445 12th Street, SW., Room TW-A325, Washington, DC 20554. In addition to filing comments with the FCC, interested parties should serve the petitioner, or its counsel or consultant, as follows: Linda G. Coffin, Skadden, Arps, Slate, Meagher & Flom LLP, 1440 New York Avenue, NW, Washington, DC 20005 (Counsel for Zavaletta Broadcasting of Pueblo).

FOR FURTHER INFORMATION CONTACT: Pam Blumenthal, Mass Media Bureau, (202) 418-1600.

SUPPLEMENTARY INFORMATION: This is a synopsis of the Commission's Notice of Proposed Rule Making, MM Docket No. 01-332, adopted December 10, 2001, and released December 13, 2001. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under Colorado is amended by removing TV Channel 26+ and adding TV Channel 48 at Pueblo.

Federal Communications Commission.
Barbara A. Kreisman,
Chief, Video Services Division, Mass Media Bureau.

[FR Doc. 01-31457 Filed 12-20-01; 8:45 am]

BILLING CODE 6712-01-P